PRIVACY AND CIVIL LIBERTIES OVERSIGHT BOARD

[Notice-PCLOB-2019-02; Docket No. PCLOB-2019-0002; Sequence No. 1]

Public Forum

AGENCY: Privacy and Civil Liberties Oversight Board.

ACTION: Notice of public forum; request for public comment.

SUMMARY: The Privacy and Civil Liberties Oversight Board will conduct a public forum to examine the USA FREEDOM Act and the government's call detail records (CDR) program under that law. During the forum, Board Members will hear a range of expert views on the USA FREEDOM Act—from its history and implementation, to present challenges and the path ahead.

DATES: The forum will be held on Friday, May 31, 2019, from 10:00 a.m. to 12:30 p.m. (Eastern Standard Time). Please submit comments on or before July 1, 2019.

ADDRESSES: Ronald Reagan Building, Horizon Room, 1300 Pennsylvania Ave. NW, Washington, DC 20004.

FOR FURTHER INFORMATION CONTACT: Jen Burita, Director of Legislative and Public Affairs, 202-331-1986.

SUPPLEMENTARY INFORMATION: Doors open at 9:30 a.m. The forum will begin promptly at 10:00 a.m.

Participant List

The Board will hear from these experts:

• Jamil N. Jaffer—Founder and Director of the National Security Institute and Director of the National Security Law and Policy Program, George Mason University, Antonin Scalia School of Law

• Susan Landau—Bridge Professor of Cyber Security and Policy in the Fletcher School of Law and Diplomacy and the School of Engineering, Department of Computer Science, Tufts University

• Jonathan Mayer—Assistant Professor of Computer Science and Public Affairs, Princeton University

• Julian Sanchez—Senior Fellow, Cato Institute

• Caroline Lynch—Founder and Owner of Copper Hill Strategies, former Chief Counsel of the House Judiciary Subcommittee on Crime, Terrorism, Homeland Security, and Investigations

• Michael Bahar—Partner, Eversheds Sutherland's Global Cybersecurity and Privacy Practice, former Minority Staff Director and General Counsel for the U.S. House Intelligence Committee.

Procedures for Public Observation

The event is open to the public. Pre-registration is not required. Members of the public will have an opportunity to offer comments and pose questions to the panelists. Individuals who plan to attend and require special assistance should contact Jen Burita, Public Affairs/Legislative Affairs Officer, 202-331-1986, at least 72 hours prior to the event.

Public Comments

The Privacy and Civil Liberties Oversight Board invites written comments of interested persons regarding privacy in the counterterrorism context. You may submit comments with the docket number PCLOB-2019-02 by the following method:

• Federal eRulemaking Portal: Go to http://www.regulations.gov. Please search by `Notice PCLOB-2019-02' and follow the on-line instructions for submitting comments.

• Written comments may be submitted at any time prior to the closing of the docket at 11:59 p.m., EST, on July 1, 2019.

All comments will be made publicly available and posted without charge. Do not include personal or confidential information.

Dated: May 17, 2019.
Eric Broxmeyer,
General Counsel, Privacy and Civil Liberties Oversight Board.

[FR Doc. 2019-10788 Filed 5-22-19; 8:45 am]

BILLING CODE 6820-B5-P